DEPARTMENT OF JUSTICE

Notice of Meeting; Office on Violence Against Women

AGENCY: Office on Violence Against Women, United States Department of Justice.

ACTION: Notice of meeting.

SUMMARY: This notice sets forth the schedule and proposed agenda of the forthcoming public meeting of the Section 904 Violence Against Women in Indian Country Task Force (hereinafter “the Task Force”).

DATES: The meeting will take place on December 14, 2011 from 8:30 a.m. to 5:30 p.m.

ADDRESSES: The meeting will take place at Hyatt Regency Tamaya, 1300 Tujunga Trail, and Santa Ana Pueblo, New Mexico, 87004. The public is asked to preregister by December 1, 2011 for the meeting (see below for information on pre-registration).

FOR FURTHER INFORMATION CONTACT: Lorraine Edmo, Deputy Tribal Director, Office on Violence Against Women, United States Department of Justice, 145 N Street NE., Suite 10W.121, Washington, DC 20530; by telephone at: (202) 514-8804; email: Lorraine.edmo@usdoj.gov; or fax: (202) 307-3911. You may also view information about the Task Force on the Office on Violence Against Women Web site at: http://www.ovw.usdoj.gov/siw.htm.

SUPPLEMENTARY INFORMATION: Notice of this meeting is required under section 10(a)(2) of the Federal Advisory Committee Act. Title IX of the Violence Against Women Act of 2005 (VAWA 2005) requires the Attorney General to establish a Task Force to assist the National Institute of Justice (NIJ) to develop and implement a program of research on violence against American Indian and Alaska Native women, including domestic violence, dating violence, sexual assault, stalking, and murder. The program will evaluate the effectiveness of the Federal, state, and tribal response to violence against Indian women, and will propose recommendations to improve the government response. The Attorney General, acting through the Director of the Office on Violence Against Women, established the Task Force on March 31, 2008 and re-chartered on April 6, 2010.

This meeting will be the first meeting of the re-chartered Task Force and will include an introduction of the new Task Force members, presentation of the recommendations from the previous members of the Task Force, a presentation of NIJ's program of research, a panel on other related Violence Against Indian Women studies and partnerships, and facilitated Task Force discussion of the program of research. In addition, the Task Force is also welcoming public oral comment at this meeting and has reserved an estimated 30 minutes for this. Members of the public wishing to address the Task Force must contact Lorraine Edmo, Deputy Tribal Director, Office on Violence Against Women, United States Department of Justice, 145 N Street NE., Suite 10W.121, Washington, DC 20530; by telephone at: (202) 514-8804; email: Lorraine.edmo@usdoj.gov; or fax: (202) 307-3911. The meeting will take place on December 14, 2011 from 8:30 a.m. to 5:30 p.m. and will include breaks and a working lunch. Time will be reserved for public comment from 4:30 p.m. to 5 p.m. See the section below for information on reserving time for public comment.

Access: This meeting will be open to the public but registration on a space available basis is required. Persons who wish to attend must register at least six (6) day in advance of the meeting by contacting Lorraine Edmo, Deputy Tribal Director, Office on Violence Against Women, United States Department of Justice, by email: Lorraine.edmo@usdoj.gov; or fax: (202) 307-3911. All attendees will be required to sign in at the meeting registration desk.

The meeting site is accessible to individuals with disabilities. Individuals who require special accommodation in order to attend the meeting should notify Lorraine Edmo, Deputy Tribal Director, Office on Violence Against Women, United States Department of Justice, by email: Lorraine.edmo@usdoj.gov; or fax: (202) 307-3911 no later than December 1, 2011. After this date, we will attempt to satisfy accommodation requests but cannot guarantee the availability of any requests.

Written Comments: Interested parties are invited to submit written comments by December 1, 2011 to Lorraine Edmo, Deputy Tribal Director, Office on Violence Against Women, United States Department of Justice, 145 N Street NE., Suite 10W.121, Washington, DC 20530 by mail; or by email: Lorraine.edmo@usdoj.gov; or by fax: (202) 307-3911.

Public Comment: Persons interested in participating during the public comment period of the meeting are requested to reserve time on the agenda by contacting Lorraine Edmo, Deputy Tribal Director, Office on Violence Against Women, United States Department of Justice, by email: Lorraine.edmo@usdoj.gov; or fax: (202) 307-3911 by December 21, 2011. Requests must include the participant's name, organization represented, if appropriate, and a brief description of the subject of the comments. Each participant will be permitted approximately 3 to 5 minutes to present comments, depending on the number of individuals reserving time on the agenda. Participants are also encouraged to submit written copies of their comments at the meeting. Comments that are submitted to Lorraine Edmo, Deputy Tribal Director, Office on Violence Against Women, United States Department of Justice, 145 N Street NE., Suite 10W.121, Washington, DC 20530 by mail; by email: Lorraine.edmo@usdoj.gov; or fax: (202) 307-3911 before December 1, 2011 will be circulated to Task Force members prior to the meeting.

Given the expected number of individuals interested in presenting comments at the meeting, reservations should be made as soon as possible. Persons unable to obtain reservations to speak during the meeting are encouraged to submit written comments, which will be accepted at the meeting location or may be mailed to the Section 904 Violence Against Women in Indian Country Task Force, to the attention of Lorraine Edmo, Deputy Tribal Director, Office on Violence Against Women, United States Department of Justice, 145 N Street NE., Suite 10W.121, Washington, DC 20530.

Dated: November 21, 2011.
Susan B. Carbon,
Director, Office on Violence Against Women.

[FR Doc. 2011-30541 Filed 11-29-11; 8:45 am]

BILLING CODE 4410-FX-P